DEPARTMENT OF TRANSPORTATION

Federal Highway Administration

Notice of Final Federal Agency Actions on Proposed Highway in Utah

AGENCY: Federal Highway Administration (FHWA), Department of Transportation (DOT).

ACTION: Notice of limitation of claims for judicial review of actions by FHWA and other federal agencies.

SUMMARY: This notice announces actions taken by the FWHA that are final within the meaning of 23 U.S.C. 139(l)(1). The actions relate to the proposed 1800 North (SR-37) 2000 West to I-15, Davis County improvements in the State of Utah. These actions grant approvals for the project.

DATES: By this notice, the FHWA is advising the public of final agency actions subject to 23 U.S.C. 139(l)(1). A claim seeking judicial review of the FHWA actions on the highway project will be barred unless the claim is filed on or before June 20, 2016. If the Federal law that authorizes judicial review of a claim provides a time period of less than 150 days for filing such claim, then that shorter time period still applies.

FOR FURTHER INFORMATION CONTACT: Mr. Paul Ziman, Area Engineer, Region 1, FHWA Utah Division, 2520 West 4700 South, Suite 9A, Salt Lake City, Utah 84129; telephone at 801-955-3525, or via email at paul.ziman@dot.gov. The FHWA Utah Division Office's normal business hours are Monday through Friday, 7:30 a.m. to 4:30 p.m., m.t.

SUPPLEMENTARY INFORMATION: Notice is hereby given that the FHWA has taken final agency action subject to 23 U.S.C. 139(l)(1) by issuing licenses, permits, and approvals for the 1800 North (SR-37) 2000 West to I-15 project in the State of Utah. The 1800 North (SR-37) 2000 West to I-15 project proposes to provide transportation improvements on 1800 North (SR-37) between 2000 West and Interstate 15 (I-15) in Davis County, Utah, within the cities of Clinton and Sunset. The project consists of the following improvements: Widen 1800 North between Main Street and 2000 West to a five-lane cross-section (two travel lanes in each direction with a two-way left-turn lane) with additional lanes to accommodate turning movements as 1800 approaches Main Street and 2000 West; construct a grade-separated railroad crossing on 1800 North that would take 1800 North over the Union Pacific Railroad and Utah Transit Authority tracks; and construct a new interchange on I-15 at 1800 North that would provide flyover ramps to the east side of I-15. The directional flyover ramps would be shifted to the south to avoid the Army Rail Shop (a Section 4(f) property). The actions by the FHWA and the laws under which such actions were taken are described in the Environmental Impact Statement and Section 4(f) Evaluation issued on December 21, 2015.

This notice applies to all FHWA decisions as of the issuance date of this notice and all laws under which such actions were taken. Laws generally applicable to such actions include but are not limited to:

1. General: National Environmental Policy Act (42 U.S.C. 4321-4351); Federal-aid Highway Act (23 U.S.C. 109).

2. Wildlife: Endangered Species Act (16 U.S.C. 1531-1544 and 1536); Fish and Wildlife Coordination Act (16 U.S.C. 661-667(d)); Migratory Bird Treaty Act (16 U.S.C. 703-712).

3. Cultural Resources: Section 106 of the National Historic Preservation Act of 1966, as amended (16 U.S.C. 470(f) et seq.); Archaeological and Historic Preservation Act (16 U.S.C. 469-469(c)); Archaeological Resources Protection Act of 1977 (16 U.S.C. 470(aa)-11).

4. Wetlands and Water Resources: Clean Water Act (Sections 319, 401, and 404) (33 U.S.C. 1251-1387); Land and Water Conservation Fund (16 U.S.C. 4601-4604); Safe Drinking Water Act (42 U.S.C. 300f through 300j-26); Rivers and Harbors Act of 1899 (33 U.S.C. 401-406); Wild and Scenic Rivers Act (16 U.S.C. 1271-1287); Emergency Wetlands Resources Act, (16 U.S.C. 3901, 3921); Wetlands Mitigation (23 U.S.C. 119(g) and 133(b)(14)); Flood Disaster Protection Act (42 U.S.C. 4012a, 4106).

5. Section 4(f) Land: Department of Transportation Act of 1966 (49 U.S.C. 303; 23 U.S.C. 138).

6. Noise: Federal-Aid Highway Act of 1970 (Pub. L. 91-605, 84 Stat. 1713); 23 U.S.C. 109(h) and (i); 42 U.S.C. 4441, 4332; sec. 339(b), Public Law 104-59, 109 Stat. 568, 605; 23 CFR part 772 (Procedures for Abatement of Highway Traffic Noise and Construction Noise); 49 CFR 1.48(b).

7. Executive Orders: E.O. 11593 Protection and Enhancement of Cultural Resources; E.O. 13287 Preserve America.

(Catalog of Federal Domestic Assistance Program Number 20.205, Highway Planning and Construction. The regulations implementing Executive Order 12372 regarding intergovernmental consultation on Federal programs and activities apply to this program.)

Authority: 23 U.S.C. 139(l)(1).

Issued on: January 12, 2016.
Brigitte Mandel,
Acting Division Administrator, Federal Highway Administration, Salt Lake City, Utah.

[FR Doc. 2016-00956 Filed 1-21-16; 8:45 am]

BILLING CODE 4910-RY-P